DEPARTMENT OF ENERGY

Federal Energy Regulatory Commission

[Docket Nos. CP06-470-000; CP06-471-000; CP06-472-000; CP06-473-000; CP06-474-000]

Southern LNG, Inc.; Elba Express Company, LLC; Southern Natural Gas Company; Notice Accepting in Part and Rejecting in Part Landowner Intervenors' Additional Filings in Support of Comments to the Draft Environmental Impact Statement for the Proposed Elba III Project

July 27, 2007.

On July 12, 2007, Latha Anderson, et al., and certain Landowner Intervenors (Intervenors) submitted six DVDs in support of Intervenors' Comments to the Draft Environmental Impact Statement for the Proposed Elba III Project in the above referenced dockets.

After receipt of the filing, the staff of the Federal Energy Regulatory Commission (FERC or Commission) has determined that the two of the six DVDs (Comments to Draft Environmental Impact Statement [previously submitted as Second Supplemental Comments on Draft EIS by Landowner Intervenors] and “photographs from individual property owners) are acceptable submittals which will be considered in the Final Environmental Impact Statement. However, the remaining four DVDs (“Elbert, Wilkes, and McDuffie County USGS Topographic Maps”, “Elbert, Wilkes, and McDuffie County Aerial Photographs”, “Eastern and Western Georgia Digital Elevation Models”, and “GIS, Historical Documents, and List of Property Owners and Parcel IDs”) are hereby rejected for failure to comply with the Commission's Submission Guidelines for CDs, DVDs, and Other Electronic Media (Guidelines),¹ as outlined below:

¹ The Guidelines appear online at: http://www.ferc.gov/help/submission-guide.asp.

• The data files on the DVDs include files that exceed the 50-MB limit per file;

• There are 7 unacceptable file types submitted (constituting over 60 files) which prohibit both FERC staff and the public from viewing the DVDs; and

• There are 18 file names which contain more than one period in the name (a double file extension).

Accordingly, the four specified DVDs of Intervenors' July 12, 2007 submission to the Commission are hereby rejected without prejudice to Intervenors' resubmitting this portion of its filing in accordance with the Guidelines.

Kimberly D. Bose,
Secretary.

[FR Doc. E7-15076 Filed 8-2-07; 8:45 am]

BILLING CODE 6717-01-P